DEPARTMENT OF LABOR

Occupational Safety and Health Administration

[Docket No. NRTL-3-90]

Southwest Research Institute, Application for Expansion of Recognition

AGENCY: Occupational Safety and Health Administration (OSHA), Labor.

ACTION: Notice.

SUMMARY: This notice announces the application of Southwest Research Institute (SwRI), under 29 CFR 1910.7, for expansion of its recognition as a Nationally Recognized Testing Laboratory (NRTL) under 29 CFR 1910.7, and presents the Agency's preliminary finding. This preliminary finding does not constitute an interim or temporary approval of this application.

DATES: Comments submitted by interested parties must be received no later than September 25, 2000.

ADDRESSES: Submit written comments concerning this notice to: Docket Office, Docket NRTL-3-90, U.S. Department of Labor, Occupational Safety and Health Administration, Room N2625, 200 Constitution Avenue, N.W., Washington, D.C. 20210; telephone: (202) 693-2350. Commenters may transmit written comments of 10 pages or less in length by facsimile to (202) 693-1648.

FOR FURTHER INFORMATION CONTACT: Bernard Pasquet, Office of Technical Programs and Coordination Activities, NRTL Program at the above address, or phone (202) 693-2110.

SUPPLEMENTARY INFORMATION:

Notice of Application

The Occupational Safety and Health Administration (OSHA) hereby gives notice that Southwest Research Institute (SwRI) has applied for expansion of its current recognition as a Nationally Recognized Testing Laboratory (NRTL). SwRI's expansion request covers the use of an additional test standard.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, OSHA can accept products “properly certified” by the NRTL. OSHA processes applications related to an NRTL's recognition following requirements in Appendix A to 29 CFR 1910.7. This appendix requires that the Agency publish this public notice of the preliminary finding on an application.

When first recognized, OSHA identified the Department of Fire Technology as the SwRI unit to which the recognition would apply. OSHA would no longer identify solely this department for purposes of recognition since other organizational units of SwRI would participate in its NRTL-related activities.

The most recent notices published by OSHA for the SwRI recognition covered the NRTL's renewal and expansion of recognition, which the Agency announced on November 10, 1998 (63 FR 63086) and granted on March 9, 1999 (64 FR 11503).

The current address of the SwRI facility (site) that OSHA recognizes for SwRI is: Southwest Research Institute, Department of Fire Technology, 6620 Culebra Road, Post Office Drawer 28510, San Antonio, Texas 78228.

General Background on the Application

SwRI has submitted a request, dated April 5, 2000 (see Exhibit 10), to expand its recognition as an NRTL for one additional test standard. The NRTL included adequate information in support of its request. In its cover letter, SwRI stated that its Electromagnetic Compatibility (EMCR) Section and its Environmental Testing Section would participate in testing products to the requested test standard.

SwRI seeks recognition for testing and certification of products to demonstrate compliance to the following test standard: UL 1950 Technology Equipment Including Electrical Business Equipment. OSHA has determined that the standard is appropriate within the meaning of 29 CFR 1910.7(c). The staff makes such determinations in processing expansion requests from any NRTL.

OSHA's recognition of any NRTL for a particular test standard is limited to equipment or materials (i.e., products) for which OSHA standards require third party testing and certification before use in the workplace. As a result, the Agency's recognition of an NRTL for a test standard excludes any product(s), falling within the scope of the test standard, for which OSHA has no such requirements.

The above listed test standard is approved as an American National Standard by the American National Standards Institute (ANSI). However, for convenience in processing applications, we use the designation of the standard developing organization (e.g., UL 1950) for the standard, as opposed to the ANSI designation (e.g., ANSI/UL 1950). Under our procedures, an NRTL that is approved for a particular test standard may use either the latest proprietary version of the test standard or the latest ANSI version of that standard, regardless of whether it is currently recognized for the proprietary or ANSI version. Contact ANSI or visit the ANSI web site to find out whether or not a standard is currently ANSI approved.

Preliminary Finding on the Application

SwRI has submitted an acceptable request for expansion of its recognition as an NRTL. In processing this request, OSHA performed an on-site evaluation of SwRI's NRTL testing and certification facilities. In a memo dated June 12, 2000 (see Exhibit 11), NRTL Program assessment staff recommended the expansion of SwRI's recognition to include the additional test standard listed above.

Following a review of the application file, the assessor's recommendation, and other pertinent documents, the NRTL Program staff has concluded that OSHA can grant to SwRI the expansion of recognition to use the additional test standard. The staff therefore recommended to the Assistant Secretary that the application be preliminarily approved.

Based upon the recommendation of the staff, the Assistant Secretary has made a preliminary finding that Southwest Research Institute can meet the recognition requirements, as prescribed by 29 CFR 1910.7, for the expansion of recognition. This preliminary finding does not constitute an interim or temporary approval of the application.

OSHA welcomes public comments, in sufficient detail, as to whether SwRI has met the requirements of 29 CFR 1910.7 for the expansion of its recognition as a Nationally Recognized Testing Laboratory. Your comment should consist of pertinent written documents and exhibits. To consider it, OSHA must receive the comment at the address provided above (see ADDRESSES), no later than the last date for comments (see DATES above). You may obtain or review copies of the SwRI request, the memo on the recommendation, and all submitted comments, as received, by contacting the Docket Office, Room N2625, Occupational Safety and Health Administration, U.S. Department of Labor, at the above address. You should refer to Docket No. NRTL-3-90, the permanent record of public information on the SwRI recognition.

The NRTL Program staff will review all timely comments and, after resolution of issues raised by these comments, will recommend whether to grant the SwRI expansion request. The Assistant Secretary will make the final decision on granting the expansion and, in making this decision, may undertake other proceedings prescribed in Appendix A to 29 CFR Section 1910.7. OSHA will publish a public notice of this final decision in the Federal Register.

Signed at Washington, D.C. this 18th day of July, 2000.
Charles N. Jeffress,
Assistant Secretary.

[FR Doc. 00-18866 Filed 7-25-00; 8:45 am]

BILLING CODE 4510-26-P